DEPARTMENT OF HEALTH AND HUMAN SERVICES

Decision To Evaluate a Petition To Designate a Class of Employees From Santa Susana Field Laboratory in Eastern Ventura County, California, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from Area IV of the Santa Susana Field Laboratory in eastern Ventura County, California, to be included in the Special Exposure Cohort under the Energy Employees Occupational Illness Compensation Program Act of 2000.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Authority: 42 CFR 83.9-83.12.

Pursuant to 42 CFR 83.12, the initial proposed definition for the class being evaluated, subject to revision as warranted by the evaluation, is as follows:

Facility: Area IV of the Santa Susana Field Laboratory.

Location: Eastern Ventura County, California.

Job Titles and/or Job Duties: All employees of North American Aviation, including corporate successors and subcontractors, who worked at site Area IV of the Santa Susana Field Laboratory (SSFL).

Period of Employment: August 1, 1991 through June 30, 1993.

John Howard,
Director, National Institute for Occupational Safety and Health.

[FR Doc. 2017-03674 Filed 2-23-17; 8:45 am]

BILLING CODE 4163-19-P